OFFICE OF PERSONNEL MANAGEMENT

Excepted Service

AGENCY: U.S. Office of Personnel Management (OPM).

ACTION: Notice.

SUMMARY: This notice identifies Schedule A, B, and C appointing authorities applicable to a single agency that were established or revoked from August 1, 2019 to August 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2019.

Schedule B

No Schedule B Authorities to report during August 2019.

Schedule C

The following Schedule C appointing authorities were approved during August 2019.

Agency name | Organization name | Position title | Authorization No. | Effective date
DEPARTMENT OF AGRICULTURE | Office of the Under Secretary for Rural Development | Confidential Assistant | DA190188 | 08/16/2019
| Office of the Secretary | Deputy Director of Scheduling | DA190186 | 08/16/2019
|  | Staff Assistant | DA190192 | 08/23/2019
|  | Director of Operations | DA190195 | 08/26/2019
|  | Deputy Director of Advance | DA190193 | 08/27/2019
DEPARTMENT OF COMMERCE | Office of the Director General of the United States and Foreign Commercial Service and Assistant Secretary for Global Markets | Senior Advisor | DC190143 | 08/15/2019
| Immediate Office | Special Advisor | DC190124 | 08/08/2019
| Office of Advance, Scheduling and Protocol | Special Assistant Advance Specialist | DC190132 DC190134 | 08/06/2019 08/06/2019
| Office of the Under Secretary | Deputy Director of Public Affairs | DC190117 | 08/06/2019
|  | Policy Advisor | DC190142 | 08/13/2019
| Office of Executive Secretariat | Confidential Assistant | DC190135 | 08/16/2019
DEPARTMENT OF DEFENSE | Office of the Secretary | Special Assistant | DD190168 | 08/06/2019
| Office of the Secretary of Defense | Speechwriter | DD190154 | 08/29/2019
DEPARTMENT OF EDUCATION | Office of the General Counsel | Attorney Adviser | DB190118 | 08/22/2019
DEPARTMENT OF ENERGY | Office of the Assistant Secretary for Congressional and Intergovernmental Affairs | Associate Deputy Assistant Secretary for Senate Affairs Associate Deputy Assistant Secretary for House Affairs | DE190163 DE190164 | 08/05/2019 08/05/2019
|  | Director of Intergovernmental and External Affairs | DE190168 | 08/05/2019
| Office of the Assistant Secretary for Electricity Delivery and Energy Reliability | Special Assistant | DE190179 | 08/29/2019
| Office of the Assistant Secretary for Energy Efficiency and Renewable Energy | Special Advisor | DE190178 | 08/29/2019
| Office of the Assistant Secretary for Environmental Management | Special Assistant | DE190188 | 08/29/2019
| Office of the Assistant Secretary for International Affairs | Senior Advisor | DE190173 | 08/21/2019
| Loan Programs Office | Senior Advisor | DE190145 | 08/07/2019
| Office of Cybersecurity, Energy Security and Emergency Response | Senior Advisor | DE190161 | 08/05/2019
| Office of General Counsel | Attorney-Advisor | DE190159 | 08/01/2019
| Office of Management | Special Assistant (2) | DE190169 DE190174 | 08/07/2019 08/21/2019
| Office of Policy | Senior Advisor | DE190156 | 08/05/2019
| Office of Public Affairs | Deputy Director, Office of Public Affairs (2) | DE190170 DE190177 | 08/13/2019 08/29/2019
|  | Special Assistant | DE190175 | 08/21/2019
|  | Writer-Editor | DE190162 | 08/05/2019
| Office of Science | Special Advisor | DE190160 | 08/02/2019
| Office of Technology Transition | Special Advisor | DE190180 | 08/29/2019
| Office of the Deputy Secretary | Senior Advisor (2) | DE190183 DE190184 | 08/28/2019 08/28/2019
| Office of the Secretary | Senior Advisor for International Affairs | DE190181 | 08/26/2019
| Office of the Under Secretary for Science | Special Advisor | DE190167 | 08/05/2019
| Office of the Under Secretary of Energy | Scheduler Special Advisor | DE190176 DE190190 | 08/21/2019 08/28/2019
ENVIRONMENTAL PROTECTION AGENCY | Office of Public Affairs | Senior Advisor for Strategic Communications and Policy | EP190120 | 08/13/2019
|  | Special Assistant for Digital Media | EP190124 | 08/26/2019
| Office of Public Engagement and Environmental Education | Special Assistant | EP190109 | 08/06/2019
| Office of Public Engagement and Environmental Education | Special Advisor for Public Engagement | EP190114 | 08/06/2019
| Office of the Assistant Administrator for Air and Radiation | Senior Policy Advisor for the Office of Air and Radiation | EP190127 | 08/28/2019
| Office of the Assistant Administrator for Chemical Safety and Pollution Prevention | Special Advisor | EP190113 | 08/01/2019
| Office of the Assistant Administrator for Water | Attorney-Advisor (General) | EP190121 | 08/19/2019
| Office of the Chief Financial Officer | Senior Advisor for Budget and Accountability | EP190123 | 08/29/2019
GENERAL SERVICES ADMINISTRATION | Office of the Administrator | White House Liaison and Senior Advisor | GS190038 | 08/19/2019
DEPARTMENT OF HEALTH AND HUMAN SERVICES | Centers for Medicare and Medicaid Services | Advisor for Medicare | DH190216 | 08/06/2019
| Office for Civil Rights | Special Advisor for Civil Rights | DH190238 | 08/20/2019
| Office of Communications | Speechwriter | DH190232 | 08/13/2019
| Office of Intergovernmental and External Affairs | Special Assistant | DH190244 | 08/29/2019
| Office of the Assistant Secretary for Health | Director of External Affairs Chief of Staff | DH190218 DH190235 | 08/06/2019 08/27/2019
| Office of the Assistant Secretary for Legislation | Chief of Staff Special Assistant | DH190227 DH190228 | 08/21/2019 08/21/2019
| Office of the Assistant Secretary for Public Affairs | Press Secretary Director, Speechwriting and Editorial Services | DH190223 DH190246 | 08/13/2019 08/27/2019
| Office of the Secretary | Briefing Book Coordinator | DH190233 | 08/13/2019
DEPARTMENT OF HOMELAND SECURITY | Office of the Assistant Secretary for Public Affairs | Director of Strategic Outreach and Engagement | DM190267 | 08/13/2019
| Office of the United States Citizenship and Immigration Services | Senior Advisor Deputy Chief of Staff | DM190275 DM190276 | 08/21/2019 08/21/2019
| Office of the Chief of Staff | Senior Advisor | DM190279 | 08/27/2019
| Office of the United States Customs and Border Protection | Policy Analyst | DM190280 | 08/27/2019
DEPARTMENT OF HOUSING AND URBAN DEVELOPMENT | Office of the Administration Office of Congressional and Intergovernmental Relations | Senior Advisor Congressional Liaison | DU190108 DU190109 | 08/08/2019 08/13/2019
| Office of Public Affairs | Deputy Assistant Secretary for Strategic Communication | DU190111 | 08/21/2019
DEPARTMENT OF JUSTICE | Office of Public Affairs | Senior Advisor for Strategic Communications and Chief Speechwriter | DJ190185 | 08/08/2019
DEPARTMENT OF LABOR | Office of Employee Benefits Security Administration | Chief of Staff | DL190156 | 08/16/2019
| Office of Employment and Training Administration | Senior Policy Advisor | DL190146 | 08/06/2019
| Office of Mine Safety and Health Administration | Senior Policy Advisor | DL190145 | 08/19/2019
| Office of Congressional and Intergovernmental Affairs | Senior Legislative Officer | DL190143 | 08/06/2019
| Office of Federal Contract Compliance Programs | Senior Policy Advisor | DL190149 | 08/06/2019
| Office of Public Affairs | Press Secretary | DL190147 | 08/06/2019
| Office of the Assistant Secretary for Administration and Management | Special Assistant | DL190068 | 08/15/2019
| Office of the Assistant Secretary for Policy | Deputy Chief Economist | DL190162 | 08/22/2019
| Office of the Secretary | Senior Policy Advisor | DL190144 | 08/06/2019
|  | Director, Office of Faith-Based and Community Initiatives | DL190166 | 08/27/2019
| Office of the Solicitor | Senior Counsel (2) | DL190141 DL190160 | 08/01/2019 08/22/2019
| Office of Veterans Employment and Training Service | Senior Policy Advisor | DL190142 | 08/06/2019
| Office of the Board | Senior Policy Advisor | CU190002 | 08/12/2019
NATIONAL CREDIT UNION ADMINISTRATION | National Credit Union Administration | Staff Assistant | CU190005 | 08/12/2019
OFFICE OF MANAGEMENT AND BUDGET | Office of the General Counsel\ Office of Legislative Affairs | Special Counsel Deputy for Legislative Affairs (House) | BO190039 BO190036 | 08/06/2019 08/05/2019
| Office of the National Security Programs | Special Assistant | BO190044 | 08/29/2019
| Office of Information and Regulatory Affairs | Counselor | BO190037 | 08/20/2019
| Office of the Director | Special Assistant | BO190038 | 08/02/2019
|  | Senior Advisor for Management | BO190045 | 08/29/2019
OFFICE OF PERSONNEL MANAGEMENT | Office of Communications | Public Affairs Specialist | PM190053 | 08/28/2019
SECURITIES AND EXCHANGE COMMISSION | Office of the Chairman | Confidential Assistant | SE190010 | 08/06/2019
SMALL BUSINESS ADMINISTRATION | Office of Communications and Public Liaison | Senior Advisor | SB190029 | 08/08/2019
SOCIAL SECURITY ADMINISTRATION | Office of Information Security | Program Analyst | SZ190003 | 08/07/2019
DEPARTMENT OF STATE | Bureau of European and Eurasian Affairs | Strategic Advisor | DS190130 | 08/26/2019
| Bureau of Legislative Affairs | Special Advisor | DS190131 | 08/26/2019
DEPARTMENT OF TRANSPORTATION | Office of the Executive Secretariat Office of the Assistant Secretary for Transportation Policy | Deputy Director Senior Director of Public Liaison | DT190119 DT190120 | 08/28/2019 08/28/2019
| Office of the Secretary | Senior Advisor | DT190123 | 08/28/2019
DEPARTMENT OF THE TREASURY | Office of the Assistant Secretary (Public Affairs) | Senior Advisor Confidential Assistant | DY190100 DY190101 | 08/21/2019 08/26/2019
| Office of the Under Secretary for International Affairs | Special Assistant | DY190102 | 08/26/2019
UNITED STATES INTERNATIONAL TRADE COMMISSION | Office of the Chairman Office of Commissioner Johanson | Confidential Assistant Staff Assistant | TC190006 TC190005 | 08/06/2019 08/07/2019

The following Schedule C appointing authorities were revoked during August 2019.

Agency name | Organization name | Position title | Request No. | Date vacated
COMMODITY FUTURES TRADING COMMISSION | Division of Enforcement | Director, Division of Enforcement | CT170005 | 08/17/2019
DEPARTMENT OF AGRICULTURE | Office of the Assistant Secretary for Congressional Relations | Policy and Congressional Advisor Staff Assistant | DA180250 DA180255 | 08/03/2019 08/03/2019
| Office of the Secretary | Special Assistant | DA180258 | 08/19/2019
|  | Advanced Lead | DA190019 | 08/17/2019
| Office of the Under Secretary for Rural Development | Confidential Assistant | DA180224 | 08/17/2019
| Rural Housing Service | State Director—Louisiana | DA180126 | 08/31/2019
DEPARTMENT OF COMMERCE | Office of the Assistant Secretary Legislative and Intergovernmental Affairs | Intergovernmental Affairs Specialist | DC180151 | 08/03/2019
| Office of the Director General of the United States and Foreign Commercial Service and Assistant Secretary for Global Markets | Senior Advisor for China | DC180063 | 08/06/2019
| Office of International Trade Administration | Press Secretary and Speechwriter Special Assistant to the Under Secretary | DC180206 DC180142 | 08/17/2019 08/17/2019
| Office of the Chief of Staff | Special Assistant | DC190056 | 08/17/2019
| Office of the Under Secretary for Economic Affairs | Special Advisor | DC190023 | 08/17/2019
| Office of Advance, Scheduling and Protocol | Scheduling Assistant | DC180081 | 08/17/2019
| Office of the Under Secretary | Special Assistant | DC180168 | 08/30/2019
DEPARTMENT OF DEFENSE | Office of the Assistant Secretary of Defense (Legislative Affairs) | Special Assistant to the Assistant Secretary of Defense (Legislative Affairs) | DD180117 | 08/31/2019
| Washington Headquarters Services | Defense Fellow | DD180125 | 08/31/2019
| Office of the Under Secretary of Defense (Personnel and Readiness) | Special Assistant | DD180133 | 08/31/2019
| Office of the Under Secretary of Defense (Policy) | Special Assistant | DD180098 | 08/31/2019
DEPARTMENT OF EDUCATION | Office of Communications and Outreach | Confidential Assistant (2) | DB190092 DB190055 | 08/02/2019 08/09/2019
| Office of Planning, Evaluation and Policy Development | Confidential Assistant | DB190008 | 08/31/2019
| Office of the General Counsel | Attorney Advisor | DB190047 | 08/31/2019
DEPARTMENT OF ENERGY | Office of the General Counsel | Attorney-Advisor (General) | DE180114 | 08/03/2019
| Office of the Secretary | Policy Advisor and Special Assistant to the Deputy Chiefs of Staff | DE170163 | 08/03/2019
| Office of the Assistant Secretary for International Affairs | Special Advisor | DE190147 | 08/31/2019
DEPARTMENT OF HEALTH AND HUMAN SERVICES | Office of the Assistant Secretary for Public Affairs | Press Assistant | DH180157 | 08/03/2019
| Office of the Assistant Secretary for Public Affairs | Director, Speechwriting and Editorial Services | DH180153 | 08/22/2019
| Office of the Secretary | Advisor to the Secretary for Value-Based Reform | DH180246 | 08/09/2019
|  | Special Assistant | DH190024 | 08/03/2019
| Office of the Assistant Secretary for Health | Chief of Staff Deputy Chief of Staff | DH180212 DH180249 | 08/08/2019 08/31/2019
|  | Executive Director, President's Council on Sports, Fitness and Nutrition | DH180057 | 08/08/2019
| Office of Intergovernmental and External Affairs | Senior Advisor | DH190025 | 08/17/2019
| Office of the Administration for Children and Families | Communications Director Advisor | DH190203 DH180145 | 08/23/2019 08/30/2019
| Office of Global Affairs | Advisor | DH170113 | 08/31/2019
| Office of the Assistant Secretary for Legislation | Policy Advisor | DH180220 | 08/31/2019
DEPARTMENT OF HOMELAND SECURITY | Office of the General Counsel | Oversight Counsel | DM190046 | 08/24/2019
DEPARTMENT OF HOUSING AND URBAN DEVELOPMENT | Office of Housing Office of Public and Indian Housing | Advisor Policy Advisor | DU180050 DU180107 | 08/04/2019 08/17/2019
|  | Special Advisor | DU170055 | 08/18/2019
|  | Senior Advisor for Single Family Housing | DU180087 | 08/31/2019
| Office of the Administration | Director of Scheduling and Advance | DU180099 | 08/03/2019
|  | Special Assistant | DU180106 | 08/17/2019
| Office of the General Counsel | Senior Counsel | DU190032 | 08/15/2019
DEPARTMENT OF JUSTICE | Office of Legislative Affairs | Attorney Advisor | DJ180129 | 08/24/2019
DEPARTMENT OF STATE | Office of Policy Planning | Senior Advisor | DS180062 | 08/30/2019
DEPARTMENT OF THE INTERIOR | Secretary's Immediate Office | Senior Advisor to the Secretary | DI180072 | 08/31/2019
DEPARTMENT OF THE TREASURY | Office of the Assistant Secretary (Public Affairs) | Public Affairs Specialist | DY180061 | 08/02/2019
DEPARTMENT OF TRANSPORTATION | Office of the Assistant Secretary for Transportation Policy | Director of Public Engagement | DT190005 | 08/31/2019
| Office of the Executive Secretariat | Deputy Director | DT180070 | 08/23/2019
|  | Special Assistant to the Director | DT190054 | 08/31/2019
| Office of the Secretary | Senior Advisor to the Secretary | DT170051 | 08/17/2019
|  | Special Assistant for Scheduling and Advance | DT180058 | 08/31/2019
ENVIRONMENTAL PROTECTION AGENCY | Office of Public Affairs Office of Public Engagement and Environmental Education | Public Affairs Specialist Special Advisor for Agriculture Outreach | EP190019 EP190077 | 08/03/2019 08/17/2019
| Office of the Administrator | Special Assistant | EP180003 | 08/03/2019
|  | Senior Advisor for Health and Human Safety | EP190016 | 08/09/2019
|  | Deputy White House Liaison | EP180096 | 08/17/2019
| Office of the Assistant Administrator for Air and Radiation | Policy Advisor | EP180095 | 08/31/2019
| Office of the Assistant Administrator for Chemical Safety and Pollution Prevention | Environmental Engineer | EP180090 | 08/17/2019
| Office of the Assistant Administrator for Research and Development | Confidential Assistant | EP180082 | 08/03/2019
NATIONAL AERONAUTICS AND SPACE ADMINISTRATION | Office of Legislative and Intergovernmental Affairs | Legislative Affairs Specialist | NN190002 | 08/31/2019
OFFICE OF MANAGEMENT AND BUDGET | Office of Communications | Deputy Press Secretary | BO180024 | 08/31/2019
SECURITIES AND EXCHANGE COMMISSION | Office of the Chairman | Confidential Assistant | SE190002 | 08/16/2019
SMALL BUSINESS ADMINISTRATION | Office of Field Operations | Regional Administrator, Region III | SB170065 | 08/31/2019

Authority: 5 U.S.C. 3301 and 3302; E.O. 10577, 3 CFR, 1954-1958 Comp., p. 218.

Office of Personnel Management.
Stephen Hickman,
Federal Register Liaison.

[FR Doc. 2022-15896 Filed 7-25-22; 8:45 am]

BILLING CODE 6325-39-P